DEPARTMENT OF THE INTERIOR

Bureau of Indian Affairs

[201A2100DD AAK6006201 AOR3030.999900]

Draft Supplemental Environmental Impact Statement for the Proposed Arrow Canyon Solar Project, Clark County, Nevada

AGENCY: Bureau of Indian Affairs, Interior.

ACTION: Notice of availability.

SUMMARY: This notice advises the public that the Bureau of Indian Affairs (BIA), as the lead Federal agency, with the Bureau of Land Management (BLM), the Environmental Protection Agency (EPA), U.S. Fish and Wildlife Service (USFWS), and the Moapa Band of Paiute Indians (Moapa Band) as cooperating agencies, intends to file a draft supplemental environmental impact statement (DSEIS) with the EPA for the proposed Arrow Canyon Solar Project (ACSP or Project). The DSEIS evaluates the expansion of the previously approved Moapa Solar Energy Center (MSEC) Project on the Moapa River Indian Reservation (Reservation) in Clark County, Nevada. This notice also announces that the DSEIS is now available for public review and that public meetings will be held to solicit comments on the DSEIS.

DATES: The dates and times of the virtual public meetings will be published in the Las Vegas Review-Journal and Moapa Valley Progress and on the following website 15 days before the public meetings: www.arrowcanyonsolarseis.com. In order to be fully considered, written comments on the DSEIS must arrive no later than 45 days after EPA publishes its Notice of Availability in the Federal Register.

ADDRESSES: You may mail, email, hand carry or telefax written comments to Mr. Chip Lewis, Regional Environmental Protection Officer, BIA Western Regional Office, Branch of Environmental Quality Services, 2600 North Central Avenue, 4th Floor Mail Room, Phoenix, Arizona 85004-3008; fax (602) 379-3833; email: chip.lewis@bia.gov.

FOR FURTHER INFORMATION CONTACT: Mr. Chip Lewis, BIA Western Regional Office, Branch of Environmental Quality Services at (602) 379-6750 or Mr. Garry Cantley at (602) 379-6750.

SUPPLEMENTARY INFORMATION: The proposed Federal action, taken under 25 U.S.C. 415, is BIA approval of a lease to accommodate the expansion of the solar field previously approved for the MSEC Project and the modification of the existing solar energy ground lease and related agreements entered into by the Moapa Band with the Applicant. The agreements provide for construction, operation and maintenance (O&M), and decommissioning of a 200-megawatt (MW) alternating current solar photovoltaic (PV) electricity generation facility located entirely on the Reservation and specifically on lands held in trust for the Moapa Band.

The MSEC Project was originally developed by Moapa Solar LLC and included an 850-acre solar site on the Reservation and associated rights-of-way (ROWs) on BLM-managed lands for an access road, gen-tie line, and water pipeline. Records of Decision (RODs) were issued by the BIA and BLM in May 2014 and BIA approved the lease one month later. The ROW was issued by BLM in August 2015 for the linear facilities. In March 2017, EDF Renewables Development, Inc. (EDFR) purchased the MSEC Project from the original owner and renamed the Project the Arrow Canyon Solar Project. EDFR subsequently transferred the Project to Arrow Canyon Solar, LLC. Currently, the approved MSEC Project and associated facilities have not yet been constructed.

The Applicant currently plans to expand the solar field on the Reservation from 850 acres to 2,200 acres. This expansion would occur on Tribal lands identified by the Moapa Band that are adjacent to the originally approved MSEC site. The linear facilities, (i.e. main access road, 230kV gen-tie line, and water pipeline) as previously approved by the BLM would remain a part of the Project description; therefore, these facilities are not reevaluated. The SEIS focuses on the expansion of the solar field only.

Construction of the Project is expected to take approximately 18 to 20 months. The Applicant is expected to operate the energy facility up to 35 years. Major components of the solar site would include multiple blocks of solar PV panels mounted on tracking systems, inverters, transformers, collection lines, battery storage facilities, project substation, and O&M facilities. Water will be needed during construction primarily for dust control and a minimal amount will be needed during operations for administrative and sanitary water use and panel washing. The water supply required for the Project would be from wells owned by the Moapa Band and delivered to the site via the previously approved water pipeline or trucks. Access to the ACSP will be provided via North Las Vegas Boulevard from the I-15/US 93 interchange.

The purposes of the proposed Project are, among other things, to: (1) Help provide a long-term, diverse, and viable economic revenue base and job opportunities for the Moapa Band; (2) meet the terms of the existing Power Purchase Agreement for the output of the Project; (3) help Nevada and neighboring states to meet their State renewable energy needs; and (4) allow the Moapa Band, in partnership with the Applicant, to optimize the use of the lease site while maximizing the potential economic benefit to the Moapa Band.

The BIA will use the SEIS to make a decision on the land lease application under its jurisdiction; the EPA may use the document to make decisions under its authorities; the Band may use the DSEIS to make decisions under its Environmental Policy Ordinance; and the USFWS may use the DSEIS to support its decision under the Endangered Species Act.

Directions for Submitting Comments: Please include your name, return address and the caption: “DSEIS Comments, Proposed Arrow Canyon Solar Project” on the first page of your written comments. You may also submit comments verbally during one of the virtual public meeting presentations or provide written comments to the address listed above in the ADDRESSES section.

To help protect the public and limit the spread of the COVID-19 virus, virtual public meetings will be held, where team members will provide a short presentation will be made and remain available to discuss and answer questions. The PowerPoint presentation will be posted to the project website prior to the virtual meetings. Those who cannot live stream the presentation would be able to access the meeting presentation on the website and could join by telephone. Additionally, the live presentation will be recorded and made accessible for viewing throughout the comment period. The first public meeting will be held in the afternoon by video and telephone conference and the second public meeting will be held in the evening by video and telephone conference. The dates, times, and access information for the virtual meetings will be included in notices to be published in the Las Vegas Review-Journal and Moapa Valley Progress and on the project website at www.arrowcanyonsolarseis.com 15 days before the meetings.

Locations Where the DSEIS is Available for Review: The DSEIS will be available for review at: BIA Western Regional Office, 2600 North Central Avenue, 12th Floor, Suite 210, Phoenix, Arizona; BIA Southern Paiute Agency, 180 North 200 East, Suite 111, St. George, Utah; and the BLM Southern Nevada District Office, 4701 North Torrey Pines Drive, Las Vegas, Nevada. The DSEIS is also available on line at: www.arrowcanyonsolarseis.com.

To obtain an electronic copy of the DSEIS, please provide your name and address in writing or by voicemail to Mr. Chip Lewis or Mr. Garry Cantley. Their contact information is listed in the FOR FURTHER INFORMATION CONTACT section of this notice. Individual paper copies of the DSEIS will be provided only upon request.

Public Comment Availability: Written comments, including names and addresses of respondents, will be available for public review at the BIA Western Regional Office, 2600 North Central Avenue, 12th Floor, Suite 210, Phoenix, Arizona during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Tara Sweeney,
Assistant Secretary—Indian Affairs.

[FR Doc. 2020-17165 Filed 8-6-20; 8:45 am]

BILLING CODE 4337-15-P